OFFICE OF PERSONNEL MANAGEMENT

[OMB Control No. 3206-0219]

Submission for Review: Revision of an Existing Information Collection, USAJOBS®

AGENCY: Office of Personnel Management.

ACTION: 30-Day notice and request for comments.

SUMMARY: The Office of Personnel Management (OPM) offers the general public and other Federal agencies the opportunity to comment on a revised information collection request (ICR) 3206-0219, USAJOBS.

DATES: Comments are encouraged and will be accepted until March 29, 2021.

ADDRESSES: Interested persons are invited to submit written comments on the proposed information collection to the U.S. Office of Personnel Management, Human Resources Solutions, Federal Staffing Center, USAJOBS, 1900 E Street NW, Washington, DC 20415, Attention: John Still or send them via electronic mail to john.still@opm.gov.

FOR FURTHER INFORMATION CONTACT: A copy of this ICR, with applicable supporting documentation, may be obtained by contacting the U.S. Office of Personnel Management, Human Resources Solutions, Federal Staffing Center, USAJOBS, 1900 E Street NW, Washington, DC 20415, Attention: John Still, or by sending a request via electronic mail to john.still@opm.gov, or call 202-606-8001.

SUPPLEMENTARY INFORMATION: USAJOBS is the Federal Government's centralized source for most Federal jobs and employment information, including both positions that are required by law to be posted at that location and positions that can be posted there at an agency's discretion. The Applicant Profile and Resume Builder are two components of the USAJOBS application system. USAJOBS reflects the minimal critical elements collected across the Federal Government to begin an application for Federal jobs under the authority of sections 1104, 1302, 3301, 3304, 3320, 3361, 3393, and 3394 of title 5, United States Code. As required by the Paperwork Reduction Act of 1995, (Pub. L. 104-13, 44 U.S.C. chapter 35) as amended by the Clinger-Cohen Act (Pub. L. 104-106), OPM is soliciting comments for this collection. The information collection (OMB No. 3206-0219) was previously published in the Federal Register on November 30, 2020 at 85 FR 76628 allowing for a 60-day public comment period. No comments were received for this information collection. The purpose of this notice is to allow an additional 30 days for public comments. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and Minimize the burden of the collection of information on those who are to respond, including through the use of appropriate automated, electronic, mechanical, or other technological collection techniques or other forms of information technology, e.g., permitting electronic submissions of responses.

Analysis

Agency: Office of Personnel Management

Title: USAJOBS

OMB Number: 3206-0219

Frequency: Annually

Affected Public: Individuals

Number of Respondents: 4,529,824

Estimated Time per Respondent: 43 Minutes

Total Burden Hours: 3,246,374

Office of Personnel Management.
Alexys Stanley,
Regulatory Affairs Analyst.

[FR Doc. 2021-04157 Filed 2-25-21; 8:45 am]

BILLING CODE 6325-38-P